PRESIDIO TRUST

The Presidio of San Francisco, California; Notice of Adoption of the Presidio Trust Management Plan and Availability of the Record of Decision

AGENCY: The Presidio Trust.

ACTION: The Presidio Trust Board of Directors (Board) has adopted the “Presidio Trust Management Plan, Land Use Policies for Area B of The Presidio of San Francisco” (PTMP) from among six plan alternatives and one variant as the plan that will guide the Presidio Trust's (Trust's) future management and implementation of projects within the area of The Presidio of San Francisco (Presidio) under the Trust's jurisdiction (Area B). The selection and basis for the Trust's decision is set forth in a Record of Decision (ROD) for the PTMP Final Environmental Impact Statement (Final EIS).

The Board made the decision set forth in the ROD after more than two years of planning and environmental review by the Trust in compliance with the decision-making requirements of the National Environmental Policy Act of 1969, as amended (42 U.S.C. 4321 et seq.) (NEPA), the NEPA's implementing regulations promulgated by the Council on Environmental Quality (40 CFR 1500-1508), and the Trust's supplemental implementing regulations at 36 CFR part 1010. The Final EIS is a programmatic document, and supplements the 1994 Final General Management Plan Amendment Environmental Impact Statement for the Presidio. Based upon a thorough analysis of the PTMP Final EIS alternatives and their potential environmental consequences, consideration of all public and agency comments received during the NEPA process, and in consideration of the mandates of the Trust Act (16 U.S.C. 460bb note, Title I of Pub. L. 104-333, 110 Stat. 4097), as amended, and the entire agency record, the Board selected the PTMP, analyzed in the Final EIS as the Final Plan Alternative and fully set forth in the separate PTMP document, as the Trust's management plan. The Board approved and adopted the PTMP by unanimous vote on August 22, 2002, and authorized the Trust's Executive Director to execute the ROD memorializing the Board's decision. The ROD was signed on August 27, 2002.

CONTENTS: The ROD documents the decision and rationale for adopting the PTMP (identified during project scoping and review of draft documents under the name Presidio Trust Implementation Plan or PTIP). The ROD also provides background about the Trust and the planning effort, and describes the alternatives considered, public involvement, agency consultation, mitigating measures developed to avoid or minimize environmental impacts of the selected alternative, and use of the Final EIS in subsequent decision making. As required by the NEPA, it identifies the environmentally preferable alternative, and sets forth an evaluation of alternatives and the reasons for adopting the Final Plan Alternative. A report addressing public input received during the period following release of the PTMP and the accompanying Final EIS is also attached to the ROD.

DATES: The Trust initiated a public planning and environmental review process pursuant to the NEPA on June 30, 2000, developed alternative plan options and issued a Draft Plan and Draft EIS on July 25, 2001, invited public participation and considered public comment, and issued a proposed Final Plan, Final EIS, and responses to public comments on May 24, 2002. The 30-day minimum “no-action” period required by the NEPA expired on June 23, 2002, and the Trust signed the PTMP ROD, making it immediately effective, on August 27, 2002.

Materials Available to the Public: The approved ROD is available by calling or writing the Presidio Trust, 34 Graham Street, P.O. Box 29052, San Francisco, CA 94129-0052. Telephone: 415/561-5414. The ROD is available electronically on the Trust's website (http://www.presidiotrust.gov). The ROD may also be reviewed in the Trust's library at the above address.

FOR FURTHER INFORMATION CONTACT: John Pelka, NEPA Compliance Manager, the Presidio Trust, 34 Graham Street, P.O. Box 29052, San Francisco, CA 94129-0052. Telephone: 415/561-5414.

Dated: September 4, 2002.
Karen A. Cook,
General Counsel.

[FR Doc. 02-23060 Filed 9-10-02; 8:45 am]

BILLING CODE 4310-4R-P